SMALL BUSINESS ADMINISTRATION

[Disaster Declaration # 13699 and # 13700]

Iowa Disaster Number IA-00053

AGENCY: U.S. Small Business Administration.

Amendment 1.

SUMMARY: This is an amendment of the Presidential declaration of a major disaster for Public Assistance Only for the State of Iowa (FEMA-4135-DR), dated 7/31/2013.

Incident: Severe Storms, Tornadoes, and Flooding

Incident Period: 6/21/2013 through 6/28/2013.

Effective Date: 8/20/2013.

Physical Loan Application Deadline Date: 9/30/2013.

Economic Injury (EIDL) Loan Application Deadline Date: 5/01/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of IOWA, dated 7/31/2013, is hereby amended to include the following areas as adversely affected by the disaster.

Primary Counties: Audubon, Grundy.

All other information in the original declaration remains unchanged.

(Catalog of Federal Domestic Assistance Numbers 59002 and 59008)

Joseph P. Loddo,
Acting Associate Administrator for Disaster Assistance.

[FR Doc. 2013-21152 Filed 8-28-13; 8:45 am]

BILLING CODE 8025-01-P